DEPARTMENT OF THE INTERIOR

Bureau of Land Management

[LLCOS05000.L16100000.DQ0000.LXSS053C0000.19X]

Notice of Availability of the Proposed Resource Management Plan and Final Environmental Impact Statement for the Uncompahgre Field Office, Colorado

AGENCY: Bureau of Land Management.

ACTION: Notice of availability.

SUMMARY: In accordance with the National Environmental Policy Act of 1969, as amended, and the Federal Land Policy and Management Act of 1976, as amended, the Bureau of Land Management (BLM) prepared a Proposed Resource Management Plan (RMP) and Final Environmental Impact Statement (EIS) for the Uncompahgre Planning Area and by this notice, is announcing its availability.

DATES: BLM planning regulations state that any person who meets the conditions as described in the regulations may protest the BLM's Proposed RMP. A person who meets the conditions and files a protest must file the protest within 30 days of the date that the Environmental Protection Agency publishes its Notice of Availability in the Federal Register.

ADDRESSES: The Proposed RMP/Final EIS is available on the BLM ePlanning project website at https://go.usa.gov/xnpgD. Click on the Documents and Reports link on the left side of the screen to find the electronic version of this material. Hard copies of the Proposed RMP/Final EIS are also available for public inspection at the Uncompahgre Field Office, 2505 South Townsend Avenue, Montrose, CO 81401. All protests must be in writing and filed with the BLM Director, either as a hard copy or electronically via the BLMS's ePlanning project website listed previously. To submit a protest electronically, go to the ePlanning project website and follow the protest instructions highlighted at the top of the home page. If submitting a protest in hard copy, it must be mailed to one of the following addresses:

Regular Mail: BLM Director (210) Attention: Protest Coordinator, P.O. Box 71383, Washington, DC 20024-1383.

Overnight Delivery: BLM Director (210) Attention: Protest Coordinator, 20 M Street SE, Room 2134LM, Washington, DC 20003.

FOR FURTHER INFORMATION CONTACT: Matthew Loscalzo, Planning and Environmental Coordinator; telephone 970-240-5300; address 2465 South Townsend Avenue, Montrose, CO 81401; email uformp@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The BLM prepared the Uncompahgre Proposed RMP/Final EIS to evaluate and revise the management strategy for resources, resource uses, and special designations within the Uncompahgre Planning Area. The Uncompahgre Planning Area includes approximately 3.1 million acres of public land managed by the BLM Uncompahgre Field Office, U.S. Forest Service (portions of the Grand Mesa, Uncompahgre and Gunnison National Forest), National Park Service (Black Canyon of the Gunnison National Park, and portions of Curecanti National Recreation Area), U.S. Bureau of Reclamation, State of Colorado (including Ridgway, Crawford, and Paonia State Parks), and local and private lands—all of which are located in southwestern Colorado, in Montrose, Delta, Gunnison, Ouray, San Miguel and Mesa counties. While the Gunnison Gorge National Conservation Area (NCA) and the Dominguez-Escalante NCA are geographically within the Uncompahgre Planning Area, they are not part of this planning effort as they are managed under separate RMPs. The Uncompahgre RMP will determine management for approximately 675,800 acres of BLM-administered surface lands and 971,220 acres of Federal mineral estate. When approved, the Uncompahgre RMP will replace the 1985 San Juan/San Miguel RMP, as amended; and the 1989 Uncompahgre Basin RMP, as amended.

The Proposed RMP/Final EIS describes and analyzes five management alternatives (Alternatives A, B, C, D, E) and one sub-alternative (Alternative B.1). Each includes goals, objectives, allowable uses and management actions to address new management challenges, issues, and changes in BLM regulations, guidance and policy.

Alternative A is the No Action Alternative and retains the current goals, objectives, and direction specified in the existing 1985 San Juan/San Miguel RMP and 1989 Uncompahgre Basin RMP.

Alternative B emphasizes improving, rehabilitating and restoring resources; sustaining the ecological integrity of habitats for all priority plant, wildlife and fish species; and allowing appropriate development scenarios for allowable uses (such as mineral leasing, locatable mineral development, recreation, communication sites and livestock grazing).

Alternative B.1 is a subset of Alternative B, and specifically addresses oil and gas leasing and development in the North Fork and Smith Fork drainages of the Gunnison River. This sub-alternative would close certain areas to oil and gas leasing and would impose development setbacks with strict surface use restrictions in places where leasing may be allowed.

Alternative C emphasizes a mix of uses that maximize utilization of resources, while mitigating impacts on land health. The appropriate development scenarios for allowable uses emphasize maximizing resource production in an environmentally responsible manner, while maintaining the basic protection needed to sustain resources.

Alternative D is the Agency-Preferred Alternative from the Draft RMP/Draft EIS and emphasizes balancing resource protection and resource use among competing human interests, land uses, and the conservation of natural and cultural resource values, while sustaining and enhancing ecological integrity across the landscape, including plant, wildlife and fish habitat.

Alternative E is the Agency's Proposed RMP and is a reasonable combination of goals, objectives, allowable uses and management actions from the alternatives presented in the Draft RMP/Draft EIS. The Proposed RMP would provide comprehensive, long-range decisions for the use and management of resources in the Uncompahgre Planning Area administered by the BLM, focusing on the principles of multiple use and sustained yield.

The Uncompahgre Draft RMP/Draft EIS public comment period began on June 3, 2016, and was extended for an additional 60 days, at the request of local governments and interest groups, to November 1, 2016. The total comment period encompassed 152 days. The BLM held six public open house meetings across the Uncompahgre Planning Area during the public comment period. The BLM considered and incorporated in the Proposed RMP/Final EIS, as appropriate, comments received from the public, cooperating agencies, and internal BLM review. Public comments resulted in the addition of clarifying text, but did not significantly change proposed land use plan decisions.

Instructions for filing a protest with the Director of the BLM regarding the Proposed RMP may be found online at https://www.blm.gov/programs/planning-and-nepa/public-participation/filing-a-plan-protest and at 43 CFR 1610.5-2. All protests must be in writing and mailed to the appropriate address, as set forth in the ADDRESSES section above or submitted electronically through the BLM ePlanning project website as described above. Protests submitted electronically by any means other than the ePlanning project website protest section will be invalid unless a protest is also submitted in hard copy. Protests submitted by fax will also be invalid unless also submitted either through the ePlanning project website protest section or in hard copy.

Before including your phone number, email address, or other personal identifying information in your protest, you should be aware that your entire protest—including your personal identifying information—may be made publicly available at any time. While you can ask us in your protest letter to withhold your personal identifying information from public review, we cannot guarantee that we will be able to do so.

Authority: 40 CFR 1506.6, 40 CFR 1506.10, 43 CFR 1610.2, 43 CFR 1610.5.

Jamie E. Connell,
BLM Colorado State Director.

[FR Doc. 2019-13857 Filed 6-27-19; 8:45 am]

BILLING CODE 4310-JB-P